DEPARTMENT OF LABOR

Office of the Secretary

Combating Exploitive Child Labor Through Education in the Middle East and North Africa (MENA) Region; Combating Exploitive Child Labor Through Education in Ethiopia, Mozambique, Rwanda, and Zambia

June 3, 2004.

AGENCY: Bureau of International Labor Affairs, Department of Labor.

Announcement Type: New. Notice of Availability of Funds and Solicitation for Cooperative Agreement Applications.

Funding Opportunity Number: SGA 04-09.

Catalog of Federal Domestic Assistance (CFDA) Number: Not applicable.

Key Dates: Deadline for Submission of Application is July 6, 2004.

SUMMARY: The U.S. Department of Labor, Bureau of International Labor Affairs, will award up to U.S. $24 million through one or more cooperative agreements to an organization or organizations to improve access to quality education programs as a means to combat exploitive child labor in the Middle East and North Africa (MENA) region (up to $8 million) and in the African sub-region of Ethiopia, Mozambique, Rwanda, and Zambia (up to $16 million). The activities funded will complement and expand upon existing projects and programs to improve basic education in these regions, and, where applicable, provide access to basic education to children in areas with a high incidence of exploitive child labor. For both regions, applications must be regional in approach and respond to the entire Statement of Work outlined in this Solicitation for Cooperative Agreement Applications. In the MENA region, activities under this cooperative agreement must focus on the prevention and elimination of exploitive child labor through basic education throughout the region, with direct education interventions in Lebanon and Yemen, and must also specifically address the need to expand access to girls' education, involve civil society, and build models to strengthen institutional capacity to eliminate exploitive child labor throughout the region. In the African sub-region of Ethiopia, Mozambique, Rwanda, and Zambia, activities under this cooperative agreement must prevent and eliminate exploitive child labor by improving access and quality of education for HIV/AIDS-affected children engaged in or at-risk of entering exploitive child labor.

I. Funding Opportunity Description

The U.S. Department of Labor (USDOL), Bureau of International Labor Affairs (ILAB), announces the availability of funds to be granted by cooperative agreement to one or more qualifying organizations for the purpose of preventing child labor by expanding access to and quality of basic education and strengthening government and civil society's capacity to address the education needs of working children and those at-risk of entering work in the MENA region, and in the African sub-region of Ethiopia, Mozambique, Rwanda, and Zambia. ILAB is authorized to award and administer this program by the Consolidated Appropriations Act, 2004, Pub. L. No. 108-199, 118 Stat. 3 (2004). The cooperative agreement or cooperative agreements awarded under this initiative will be managed by ILAB's International Child Labor Program to assure achievement of the stated goals. Applicants are encouraged to be creative in proposing cost-effective interventions that will have a demonstrable impact in promoting school attendance in areas of those countries where children are engaged in or are most at-risk of working in the worst forms of child labor.

A. Background and Program Scope

1. USDOL Support of Global Elimination of Exploitive Child Labor

The International Labor Organization (ILO) estimated that 211 million children ages 5 to 14 were working around the world in 2000. Children who work full-time are generally unable to attend school, although many child workers balance economic survival with schooling from an early age, often to the detriment of their education. Since 1995, USDOL has provided over U.S. $275 million in technical assistance funding to combat exploitive child labor in over 60 countries around the world.

Programs funded by USDOL range from targeted action programs in specific sectors to more comprehensive efforts that target activities defined by ILO Convention No. 182 on the Worst Forms of Child Labor. From FY 2001 to FY 2004, the U.S. Congress has appropriated U.S. $148 million to USDOL for a Child Labor Education Initiative to fund programs aimed at increasing access to quality, basic education in areas with a high incidence of abusive and exploitive child labor. The cooperative agreement(s) awarded under this solicitation will be funded through this initiative.

USDOL's Child Labor Education Initiative seeks to nurture the development, health, safety and future employability of children around the world by increasing access to basic education for working children and those at-risk of entering work. Elimination of exploitive child labor depends in part on improving access to, quality of, and relevance of education.

The Child Labor Education Initiative has four goals:

a. Raise awareness of the importance of education for all children and mobilize a wide array of actors to improve and expand education infrastructures;

b. Strengthen formal and transitional education systems that encourage working children and those at-risk of working to attend school;

c. Strengthen national institutions and policies on education and child labor; and

d. Ensure the long-term sustainability of these efforts.

2. Barriers to Education for Working Children, Regional Backgrounds, and Focus of Solicitation

Throughout the world, there are complex causes of exploitive child labor as well as barriers to education for children engaged in or at-risk of entering exploitive child labor. These include: Poverty; education system barriers; infrastructure barriers; legal and policy barriers; resource gaps; institutional barriers; informational gaps; demographic characteristics of children and/or families; cultural and traditional practices; and weak labor markets. Although these elements and characteristics tend to exist throughout the world in areas with a high incidence of exploitive child labor, they manifest themselves in specific ways in each region/country of interest in this solicitation.

Applications in response to the solicitation for MENA or Africa must be regional in approach, i.e., applications must include all of the countries in the region and promote regional activities and sharing of best practices and lessons learned to enhance and improve education and exploitive child labor policies and practices among project countries. The regional focus of the project should also emphasize policy and program approaches that, through the sharing of knowledge and lessons learned from other countries, augment an individual country's capacity to address the education barriers faced by working children, allowing more of them to attend and complete quality educational programs.

The activities under this cooperative agreement in the MENA region must focus on the prevention and elimination of exploitive child labor through basic education, through direct education interventions in Lebanon and Yemen, and must expand access to girls' education, strengthen civil society, and build institutional capacity to eliminate exploitive child labor throughout the MENA region. In the African sub-region of Ethiopia, Mozambique, Rwanda, and Zambia, activities under this cooperative agreement must prevent and eliminate child labor by improving access to and quality of education for HIV/AIDS-affected children engaged in or at-risk of entering exploitive child labor. Applicants must be able to identify the specific barriers to education and the education needs of specific categories of children targeted in their proposed project (e.g., children withdrawn from work, children at high risk of dropping out of school into the labor force, and/or children still working in a particular sector) and how capacity building and policy change can be used to address these barriers to education and the education needs.

Background information on education and exploitive child labor in each of the regions/countries of interest is provided below. For additional information on exploitive child labor in these regions/countries, applicants are referred to The Department of Labor's 2003 Findings on the Worst Forms of Child Labor available at http://www.dol.gov/ILAB/media/reports/iclp/tda2003/overview.htm or in hard copy from Lisa Harvey, U.S. Department of Labor, Procurement Services Center, telephone (202) 693-4570 (this is not a toll-free-number) or e-mail: harvey.lisa@dol.gov.

The MENA Region

In 2000, the ILO estimated that 6.4 percent of children ages 5 to 14, or 13.4 million children, were working in the MENA region. However, the real magnitude of the problem may be much larger when children working in the informal sector are counted, such as those who work in private households as domestic servants and street children who are forced into commercial sexual exploitation and other illicit activities.

Studies indicate that exploitive child labor in the MENA region is concentrated in low-income groups or areas, urban slums, and remote peripheral villages. In rural areas, children are likely to work on farms in activities such as herding and harvesting, or in domestic or artisanal work within the small or extended family, for little or no wages. In urban areas, children are engaged in mechanical work (especially in automobile repair), market or street vending, in construction, factories, workshops, restaurants, and in private homes as domestic servants. Children working in urban slums and living in the streets are particularly vulnerable to a wide range of exploitive practices. Increasingly, urban children in the region are drawn into illicit activities such as drug trafficking and the commercial sex industry.

The majority of working children in the MENA region do not attend school. Those who combine school and work often lack adequate food or sleep, or sufficient time to study and prepare homework. Such children complete fewer years of schooling than those who do not work, dropping out at a young age. By not attending school, or by attending for only short periods of time, working children do not gain many of the skills they need to obtain stable and more highly remunerated employment as adults.

Despite these challenges, some governments have been making significant efforts to combat child labor, particularly in its worst forms. In recent years, a number of the MENA countries have raised the minimum age for admission to employment to coincide with the age for completion of compulsory education. Minimum age restrictions for employment in most of the MENA countries range between 14 and 16 years of age. Secondly, some countries in the region have prohibited children under the age of 16 to 18 years from performing certain hazardous kinds of work (e.g., working in mines, with chemicals, or at night). Finally, as of December 2003, all of the MENA countries had ratified ILO Convention No. 182 on the Worst Forms of Child Labor.

Ministries of Labor and employers and workers organizations in Egypt, Jordan, Lebanon, Morocco and Yemen, for example, have established child labor units to combat the problem of exploitive child labor in a systematic and comprehensive manner. While some MENA countries have been engaged on the issue of exploitive child labor for some time, others are still in the process of developing their national plans of action, and the issue of exploitive child labor has yet to be addressed seriously. Across the region, there is a need to raise awareness about child labor among policy makers and civil society and to collect more reliable data on the extent and nature of exploitive child labor.

In recent years, the ILO's International Program on the Elimination of Child Labor (ILO-IPEC), with support from USDOL, has assisted a number of countries in the MENA region by enhancing the capacity of key partners and assisting governments to combat exploitive child labor through developing and implementing national policy and program frameworks; models for prevention, withdrawal, and rehabilitation; and comprehensive advocacy programs.

ILO-IPEC is supporting the Governments of Egypt, Jordan, Lebanon, Morocco and Yemen to adopt and implement an explicit child labor policy as an integral component of their national development efforts. This child labor policy will aim to identify national priorities and realize objectives for the elimination of exploitive child labor through a coherent national policy for the elimination of exploitive child labor.

ILO-IPEC and other international organizations have implemented projects that aim to remove children from exploitive child labor and enroll them in school. In addition, a host of projects have been undertaken to promote access to quality basic education. Some of the education ministries in the region have developed scholarship programs, flexible schedules, and alternative curricula designed to enable all children to obtain a quality basic education. A number of local non-governmental organizations (NGOs), development agencies, and international organizations, such as UNICEF, Save the Children, and the U.S. Agency for International Development (USAID), have instituted programs to promote primary education.

Despite these efforts to eliminate exploitive child labor and promote basic education, significant gaps have not been addressed and continue to deprive working children of access to quality basic education. Although some barriers are more prominent in certain countries than others, in general across the region, these needs include:

a. Lack of coordination of efforts among governmental and non-governmental stakeholders to combat exploitive child labor with efforts to promote basic education;

b. Lack of government recognition of the link between education and exploitive child labor;

c. Lack of community awareness of the dangers inherent in exploitive child labor;

d. Lack of information sharing on exploitive child labor and education among governmental and non-governmental organizations and actors;

e. Lack of teacher training on exploitive child labor and on how to effectively instruct at-risk and working children;

f. Lack of relevant curriculum and instruction to provide students with the necessary skills to secure suitable employment opportunities;

g. Lack of adequately trained teachers and insufficient teacher incentives;

h. Lack of access to schools, particularly in rural areas;

i. Lack of gender parity in access to, participation in, and retention in school; and

j. Lack of non-formal or other affordable schooling alternatives.

The MENA project must consist of two components: (1) Addressing education barriers for working children at the regional level; and (2) implementing direct education services at the country level in Lebanon and Yemen. The regional activities will help to pave the way for more focused educational interventions for future projects in the region, and the direct education service delivery component will center around national models in Lebanon and Yemen. Both countries have already made significant progress on conducting research to better understand the characteristics of child labor, raising awareness among policymakers and civil society on the problem of exploitive child labor and its negative consequences, and mobilizing society to take action against it. As such, both countries are prepared to support direct education interventions to serve as pilot projects that can later be extended to other countries in the region when the social dialogue surrounding exploitive child labor there is more fully developed.

The regional component of this project must focus on promoting policy reform through capacity building to support the strengthening of civil society mechanisms to eliminate exploitive child labor, raise awareness on the issue, and promote dialogue among government and civil society organizations. The target population for this solicitation is working children and those at-risk of working or exploitation, particularly girls, over-age youth, youth in urban slum and squatter settlements, rural, refugee, and bedouin (nomadic) children. Applicants must identify and select from among these possible target groups, and seek to fill current gaps or needs in the provision of basic education to the chosen target population. Strategies are expected to complement activities of the President's Middle East Partnership Initiative (MEPI), USAID, ILO-IPEC, and other development initiatives where most appropriate. (MEPI is a Presidential initiative, implemented by the U.S. Department of State. MEPI was founded to support economic, political, and educational reform efforts in the Middle East and to champion opportunities for all people of the region, especially women and youth. For more information about MEPI and a list of the countries included in the initiative, please visit the U.S. Department of State Web site at: http://mepi.state.gov/mepi/).

Due to the need to strengthen civil society, reinforce government efforts to combat exploitive child labor and promote sustainability in the region, applicants are encouraged to predominantly support policy mechanisms and build capacity to undertake educational reforms that enable working children to benefit from education programs.

The regional component of the Child Labor Education Initiative awarded under this cooperative agreement must complement existing approaches by focusing on ways to: (1) Enhance the viability of schooling as an alternative to exploitive child labor; (2) mobilize stakeholders to participate in promoting schooling as a means to combat child labor; and (3) build the capacity of future national experts who will contribute directly to government policies through their commitment to and expertise in using school interventions as models to reduce exploitive child labor.

In response to the regional component of this solicitation, applicants are encouraged to:

a. Promote innovative approaches to address barriers and the sharing of good practices and lessons learned on exploitive child labor and education in the MENA region, particularly among the designated countries for MEPI and with other USDOL funded projects in the region;

b. Promote awareness raising of core labor standards and educational strategies for vulnerable children through in-service training;

c. Support the institutionalization of reforms that might lead to improved incorporation of working children into educational settings, by mobilizing stakeholders (at the local and national level) and by developing the capability to manage interventions using local resources and networks;

d. Stimulate increased accountability and creative incentives for schools to enroll and retain children who are at-risk of entering abusive labor;

e. Strengthen and build the capacity of NGOs, including faith-based organizations, community-based organizations, and the private sector, through organizational development and training, to provide educational programs;

f. Encourage intra-governmental collaboration among relevant agencies within the MENA region, particularly in the designated countries for MEPI, that will enhance the quality of basic education;

g. Complement the reform objectives of the MEPI Partnership Schools Program as well as the strategies set out in the 2003 United Nations Development Program (UNDP) Arab Human Development Report to build a more knowledge-oriented society throughout the MENA region; and

h. Support innovative, cross-sectoral and international strategies that will ensure institutional development and the active participation of key stakeholders in combating exploitive child labor.

In addition to responding to the regional component of this solicitation, all applications for the MENA region must include strategies for implementing models of direct education intervention in Lebanon and Yemen. Applicants are strongly encouraged to focus program interventions in Lebanon and Yemen on at least two areas: (1) At the national education policy level to mainstream child labor within the national education strategy; and (2) at the regional and local levels targeting children working in exploitive child labor and the communities where they live and work. In Lebanon and Yemen, direct education service delivery interventions must be designed as demonstration projects with direct policy applications.

Direct education intervention efforts under this solicitation are expected to provide access to basic and vocational education to children working in exploitive activities, particularly in developing innovative ways to provide remedial education, accelerated learning, and other forms of non-formal education to bridge the gaps that exist in education delivery to these vulnerable children. Applicants are encouraged to develop creative and innovative methods to make schools more accommodating and relevant to children engaged in or at-risk of entering exploitive child labor, such as through awareness raising for school personnel, by integrating children of legal working age into vocational and technical education programs, introducing a flexible school calendar, or by providing services that are relevant to the educational needs of working children, including programs, curriculum, schedule, equipment, and classroom materials.

Until now, most interventions to address exploitive child labor in Lebanon and Yemen have focused on the more visible children in urban areas, such as working street children. However, in Lebanon the following regions suffer from a prevalence of exploitive child labor and a lack of appropriate interventions: Beqaa, South Lebanon, North Lebanon, in particular, Bab el Tebbaneh, Northern Tripoli, and Akkar, and the suburbs of Beirut (specifically Ghobeiry, Ouzai, Bourj Hammoud, Sin el Fil-Nabaa, and Bourj el-Barajneh). Applicants under this solicitation must provide or facilitate the provision of educational opportunities to children engaged in or at-risk of entering exploitive child labor in three to five of the regions identified above in order to reach children at-risk of or working in exploitive child labor.

In Yemen, the majority of working children are girls who labor in agriculture. Although girls in this sector labor under hazardous conditions with few educational opportunities, they have traditionally been seen as being safe working in a family environment. The regions of Hajjah, Mahwait, Dammar, Bayda, Ibb, and Abyan have been identified as areas with large numbers of child agricultural workers. Applicants under this solicitation must focus educational interventions in three to five of the regions identified above in order to reach children engaged in hazardous agricultural work that prevents school enrollment and children who are at high risk of entering hazardous child labor. The total number of target regions for both countries should not exceed ten.

Note to All Applicants: Applicants are encouraged to consider the number of ongoing projects and amount of resources already in existence when making resource allocations for the region. Applicants are particularly encouraged to coordinate actions with the ongoing ILO-IPEC Programs and/or USDOL Child Labor Education Initiatives in the region. Due to the unique needs and gaps in the MENA region, applicants are strongly encouraged to respond to regional needs, particularly in terms of efforts to promote gender parity in access to, participation and retention in basic education. Applicants are urged to adopt strategies that will ensure sustainable results and to involve the private sector, policymakers and civil society to the greatest extent possible.

Country background information on Lebanon and Yemen is provided in Appendix B.

Ethiopia, Mozambique, Rwanda, and Zambia

In 2000, the ILO estimated that 22.7 percent of children ages 5 to 14, or 48 million children, were working in Sub-Saharan Africa. Compared to other regions, the proportion of the total child population that is working in Sub-Saharan Africa is the highest in the world. Child labor most frequently occurs within the context of the family economy where children are encouraged to work in order to contribute to the family income. The percentage of working children ages 10-14 varies within the region, ranging as low as 11.5 percent in Zambia to as high as 41 percent in Ethiopia and Rwanda. The HIV/AIDS pandemic has increased children's participation in work, and impacted their ability to access basic education.

HIV/AIDS-affected children are those who have HIV/AIDS; those who have lost one or both parents to the disease; those who live in a household with a parent or other family member who is ill; those who live in families in which resources—financial or emotional—are overstretched as a result of increased numbers of children for whom they are responsible; those who live in communities severely affected—economically and socially—by the impact of HIV/AIDS; and those whose circumstances place them at risk of HIV infections, such as through commercial sexual exploitation, or infection acquired in the workplace (e.g., domestic service). There are currently approximately 2.5 million HIV/AIDS orphans in Ethiopia, Mozambique, Rwanda and Zambia. This number is expected to rise to an estimated 3.8 million by 2010.

HIV/AIDS-affected children face a range of problems including limited access to basic necessities (including education), psychological trauma due to the collapse of their families, stigmatization and discrimination, and increased vulnerability to exploitive child labor. There is insufficient data available in the African sub-region to determine the specific forms of exploitive child labor in which all children affected by HIV/AIDS are participating. However, recent country-specific and regional reports provide evidence that this population is particularly vulnerable to the following labor activities:

Agriculture: The majority of children working in the sub-region are found in subsistence and commercial agriculture in rural areas. Children often work long hours and are exposed to pesticides, fertilizers, snake and insect bites, unhealthy physical exertion, and exposure to extreme weather conditions. Children are rarely provided with protective gear and may work with dangerous equipment.

Domestic Work: Domestic work is more common among girls than boys, and orphans are especially vulnerable to this work. Children working as domestic servants are often treated harshly by their employers and required to work extremely long hours for minimal wages. Even when child domestics are permitted to attend school, the number of hours and the rigors this work entails lead to sporadic attendance and poor participation.

Urban Informal Sector/Street Work: The number of street children in the African sub-region is increasing. Street children are found working in urban environments in a variety of activities. In addition to begging and engaging in petty crime, these activities can include street vending and hawking, stone crushing, washing cars, working as taxi conductors, market work, carrying items, as well as other informal activities. Urban street children may also be increasingly at-risk of engaging in commercial sexual exploitation. Several studies in the region indicate that large numbers of children living on the streets are orphans.

Commercial Sexual Exploitation: Commercial sexual exploitation of children is present in cities and towns in the sub-region and in some countries, such as Ethiopia and Mozambique, it is on the rise. Children engaged in commercial sexual exploitation are exposed to physical abuse and sexually transmitted diseases (STDs), including HIV/AIDS. Recent reports suggest that children engaged in this activity are likely to have lost at least one parent.

Child Trafficking: Trafficking of children for domestic work, work in agriculture, and commercial sexual exploitation is also reported to be a problem in some of the countries of the sub-region. Children orphaned by HIV/AIDS are at-risk of being trafficked by families or caregivers who cannot provide for them.

Barriers to and Gaps in the Education System in HIV/AIDS-Affected Areas

The HIV/AIDS pandemic affects the availability of resources for education by reducing family incomes and requiring families to increase financial allocations for medical expenses. Similarly, public funds that might previously have been available for education have been diverted to fund health and AIDS related programs. The HIV/AIDS crisis has also negatively impacted community contributions to school related improvements. There are also other systemic problems that prevent HIV/AIDS-affected children who are working or at-risk of working in exploitive child labor from taking full advantage of education opportunities. These include:

a. Lack of schools, especially in rural areas and at the secondary level;

b. Lack of transportation to schools, especially for girls, who may be placed at-risk of sexual assault and discouraged from pursuing a secondary education;

c. Denial of access to education for HIV/AIDS-affected children by family members or teachers;

d. Shortage of teachers, and support for HIV/AIDS educators. (Teachers are one of the professional groups most vulnerable to HIV/AIDS infection. Teachers infected by HIV/AIDS have much higher absenteeism rates and may suffer stress so severe that it interferes with the quality of their teaching);

e. Insufficient classroom space and teaching staff to meet the needs of growing school populations, especially in rural areas;

f. High cost of school participation for families that must buy uniforms, and pay school enrollment, materials, examination and transportation fees;

g. Insufficient political will, corruption, weak legal frameworks, and a lack of enforcement of child labor and compulsory and free education laws;

h. Poor quality, irrelevant curricula and instructional methods that parents and community members perceive to be ineffective for preparing their children to participate in the workforce;

i. Mistreatment of children in schools, including sexual harassment, corporal punishment, and discrimination based on gender, HIV/AIDS status and other factors;

j. Lack of support for families affected by HIV/AIDS, which limits their capacity to prioritize the educational needs of their children;

k. Lack of training, compensation, professional support and supervision for teachers;

l. Lack of quality instructional materials (e.g., books and equipment), inadequate school facilities and equipment, (latrines, desks, chairs) and limited support for children who speak regional or indigenous languages; and

m. Limited opportunities for non-formal, vocational, and technical training. (HIV/AIDS-affected children are often unable to access these limited opportunities due to their inability to pay vocational school fees. The opportunities that do exist are normally only available to children who have completed secondary school).

The number of HIV/AIDS orphans is expected to grow over the next decade, leaving many more children vulnerable to working in exploitive child labor. The Child Labor Education Initiative project awarded under this solicitation in the sub-region of Ethiopia, Mozambique, Rwanda, and Zambia should address all of the following objectives:

(1) Increase the capacity of families and communities to provide for the basic needs of HIV/AIDS-affected children. This may include strategies to strengthen families' ability to cope with economic hardships without withdrawing children from school, the development of community-specific education interventions, and efforts to strengthen community mobilization and support networks.

(2) Improve access to basic education, as well as vocational and technical training, for working children and children vulnerable to engaging in exploitive child labor. Innovative forms of education delivery are expected to be designed to address the special needs of HIV/AIDS-affected children. A special emphasis must be given to ensure that education opportunities are flexible for children of legal working age, who must combine education with non-hazardous, part-time work.

(3) Improve the quality of basic, non-formal, and vocational education by introducing life skills curricula, coordinating with school feeding programs, building the capacity of school management, supporting teacher training, providing school materials, and addressing infrastructure constraints such as lack of water, latrines, desks, and chairs.

(4) Raise awareness about the dangers of child labor and the importance of education. Community sensitization campaigns should target teachers, school administrators, and community leaders and focus on improving their understanding of the difficulties faced by orphans and children affected by HIV/AIDS. Teachers must be trained in counseling skills and equipped with teaching strategies to address the special needs of this vulnerable population. Activities that promote youth leadership are also encouraged.

(5) Conduct targeted research and studies to improve the knowledge base concerning the relationship between HIV/AIDS and children working in exploitive child labor, as well as how the disease affects enrollment and attendance in basic education. Additional research could focus on labor market studies and labor saving technologies.

(6) Support government efforts to implement national policies instituting free education, and build government capacity to provide for the special educational needs of orphans and HIV/AIDS-affected children through targeted technical assistance and training, advocating for new policy development, providing support for enforcement of existing education and child labor laws, and supporting HIV/AIDS awareness and prevention programs.

Country specific information is provided in Appendix B.

Note to Applicants for All Countries: Applicants are encouraged to include letters of acknowledgment and/or endorsement of their application from the host government's Ministry of Labor and Ministry of Education with the proposal. For additional information on exploitive child labor in these countries, applicants are strongly encouraged to refer to The Department of Labor's 2003 Findings on the Worst Forms of Child Labor available at http://www.dol.gov/ILAB/media/reports/iclp/tda2003/overview.htm.

B. Statement of Work

Taking into account the challenges to educating working children in each region/country of interest, the applicant must facilitate, and implement, as appropriate, creative and innovative approaches to promote policies and services that will enhance the provision of educational opportunities to children engaged in or removed from exploitive child labor. The expected outcomes/results of the project are: (1) Increase educational opportunities and access (enrollment) for children who are engaged in, at-risk of, and/or removed from exploitive child labor; (2) encourage retention in, and completion of educational programs; and (3) expand the successful transition of children in non-formal education into formal schools or vocational programs.

In the course of implementation, each project must promote the goals of USDOL's Child Labor Education Initiative listed above in Section I (A) (1). Because of the limited available resources under this award, applicants should implement programs that complement existing efforts, particularly those funded by USDOL, including Timebound Programs for the elimination of the worst forms of child labor and other projects implemented by ILO-IPEC, and, where appropriate, replicate or enhance successful models to serve expanded numbers of children and communities. However, applicants should not duplicate existing efforts and/or projects and should work within host government child labor and education frameworks. In order to avoid duplication, enhance collaboration, expand impact, and develop synergies, the cooperative agreement awardee (hereafter referred to as “Grantee”) should work cooperatively with national stakeholders in developing project interventions. Applicants are strongly encouraged to discuss proposed interventions, strategies, and activities with host government officials during the preparation of an application for this cooperative agreement.

Partnerships between more than one organization are also eligible and encouraged, in particular with qualified, regionally-based organizations in order to build local capacity; in such a case, however, a lead organization must be identified. Applicants whose strategies include the direct delivery of education are encouraged to enroll at least one-quarter of the targeted children the Grantee is attempting to reach in educational activities during the first year of project implementation. Under this cooperative agreement, vocational training for adolescents and income generating alternatives for parents are allowable activities.

Although USDOL is open to all proposals for innovative solutions to address the challenges of providing increased access to education to the children targeted, the applicant must, at a minimum, prepare responses following the outline of a preliminary project document presented in Appendix A and discussed in sections IV(B) and VI(C)(1). This response will be the foundation for the final project document that must be approved after award of the cooperative agreement. If the application does not propose interventions aimed toward the target groups and geographical areas as identified in section I(A)(2), then the application will be considered unresponsive.

Note to All Applicants: Grantees are expected to consult with and work cooperatively with stakeholders in the countries, including the Ministries of Education, Labor, and other relevant ministries, NGOs, national steering/advisory committees on child labor, education, faith and community-based organizations, and working children and their families. Grantees must ensure that their proposed activities and interventions are within those of the countries' national child labor and education frameworks and priorities, as applicable. Grantees are strongly encouraged to collaborate with existing projects, particularly those funded by USDOL, including Timebound Programs and other projects implemented by ILO-IPEC. However, applicants are reminded that this is a stand-alone project and that other Federal awards cannot supplement as matching funds a project awarded under this cooperative agreement as described in section V(A)(4).

II. Award Information

Type of assistance instrument: cooperative agreement. USDOL's involvement in project implementation and oversight is outlined in section VI(C). The duration of the projects funded by this solicitation is four (4) years. The start date of program activities will be negotiated upon awarding of the cooperative agreement, but will be no later than September 30, 2004.

Up to U.S. $24 million will be awarded under this solicitation, with up to $8 million in the MENA region (including Lebanon and Yemen); and up to $16 million in the African sub-region of Ethiopia, Mozambique, Rwanda, and Zambia. USDOL may award one or more cooperative agreements to one, several, or a partnership of more than one organization that may apply to implement the program. A Grantee must obtain prior USDOL approval for any sub-contractor before award of the cooperative agreement.

III. Eligibility Information

A. Eligible Applicants

Any commercial, international, educational, or non-profit organization, including any faith-based or community-based organization, capable of successfully developing and implementing education programs for working children or children at-risk of entering exploitive work in the regions/countries of interest is eligible to apply. Partnerships of more than one organization are also eligible, and applicants are strongly encouraged to work with organizations already undertaking projects in the regions/countries of interest, particularly local and regional NGOs, including faith-based and community-based organizations. In the case of partnership applications, a lead organization must be identified. An applicant must demonstrate a regional/country presence, independently or through a relationship with another organization(s) with regional/country presence, which gives it the ability to initiate program activities upon award of the cooperative agreement. Applicants applying for more than one region must submit a separate application for each region. If applications for the African sub-region and the MENA region are combined, they will not be considered. (All applicants are requested to complete the Survey on Ensuring Equal Opportunity for Applicants (Office of Management and Budget—OMB No. 1225-0083), which is available online at http://www.dol.gov/ILAB/grants/sga0409/bkgrdSGA0409.htm). The capability of an applicant or applicants to perform necessary aspects of this solicitation will be determined under the criteria outlined in the Application Review Information section of this solicitation, section V(A).

Please note that to be eligible, cooperative agreement applicants classified under the Internal Revenue Code as a 501(c)(4) entity (see 26 U.S.C. 501(c)(4)) may not engage in lobbying activities. According to the Lobbying Disclosure Act of 1995, codified at 2 U.S.C. 1611, an organization, as described in section 501(c)(4) of the Internal Revenue Code of 1986, that engages in lobbying activities will not be eligible for the receipt of Federal funds constituting an award, grant, cooperative agreement, or loan.

B. Cost Sharing or Matching

This solicitation does not require applicants to share costs or provide matching funds. However, the leveraging of resources (from sources other than Federal funds) and in-kind contributions is strongly encouraged and is a ranking factor worth five additional points, as described in section V(A)(4).

C. Other Eligibility Criteria

In accordance with 29 CFR part 98, entities that are debarred or suspended shall be excluded from Federal financial assistance and are ineligible to receive funding under this solicitation. Past performance of organizations that have implemented or are implementing Child Labor Education Initiative projects or activities for USDOL will be taken into account in the review of technical applications. Past performance will be rated by the timeliness of deliverables, and the responsiveness of the organization and its staff to USDOL communications regarding deliverables and cooperative agreement or contractual requirements. Lack of past experience with USDOL projects, cooperative agreements, grants, or contracts is not a bar to eligibility or selection under this solicitation.

With regard to legal rules pertaining to inherently religious activities by organizations that receive Federal Financial Assistance, neutral, non-religious criteria that neither favor nor disfavor religion will be employed in the selection of cooperative agreement recipients and must be employed by Grantees in the selection of subawardees.

The U.S. Government is generally prohibited from providing direct financial assistance for inherently religious activities. Funds awarded under this solicitation may not be used for religious instruction, worship, prayer, proselytizing or other inherently religious activities.

IV. Application and Submission Information

A. Address To Request Application Package

This solicitation contains all of the necessary information and forms needed to apply for cooperative agreement funding. This solicitation is published as part of this Federal Register notice, which may be obtained from your nearest U.S. Government office or public library or online at http://www.archives.gov/federal_register/index.html.

B. Content and Form of Application Submission

One (1) blue ink-signed original, complete application in English plus two (2) copies (in English) of the application, must be submitted to the U.S. Department of Labor, Procurement Services Center, 200 Constitution Avenue, NW., Room N-5416, Attention: Lisa Harvey, Reference Solicitation 04-09, Washington, DC 20210, not later than 4:45 p.m. Eastern Time, July 6, 2004. Applicants may submit applications for one or both regions. In the case where an applicant is interested in applying for a cooperative agreement in both regions, a separate application must be submitted for each region.

The application must consist of two (2) separate parts, as well as a table of contents and an abstract summarizing the application in not more than two (2) pages. The table of contents and abstract are not included in the 45-page limit for part II (see below).

Part I of the application, the Program Design/Budget-Cost Proposal, must contain the Standard Form (SF) 424, Application for Federal Assistance and Sections A-F of the Budget Information Form SF 424A, available from ILAB's Web site at http://www.dol.gov/ILAB/grants/sga0409/bkgrdSGA0409.htm. Copies of these forms are also available online from the General Services Administration Web site at http://contacts.gsa.gov/webforms.nsf/0/B835648D66D1 B8F985256A72004C58C2/ $file/sf424.pdf and http://contacts.gsa.gov/ webforms.nsf/0/5AEB1FA6FB3B83238 5256A72004C8E77/$file/Sf424a.pdf. The individual signing the SF 424 on behalf of the applicant must be authorized to bind the applicant. The budget/cost proposal must be written in 10-12 pitch font size.

Part II is a technical application that identifies and explains the proposed program and demonstrates the applicant's capabilities to carry out that proposal. The technical application must identify how it will carry out the Statement of Work (section I(A)(2) of this solicitation) and address each of the Application Review Criteria found in section V(A).

The Part II technical application must not exceed 45 single-sided (8½″ x 11″), double-spaced, one inch margin, 10 to 12 pitch typed pages for each region, and must include responses to the application evaluation criteria outlined in Section V(A) of this solicitation. Part II must include a project design document submitted in the format shown in Appendix A, and discussed further in Section VI(C)(1). The application must include the name, address, telephone and fax numbers, and e-mail address (if applicable) of a key contact person at the applicant's organization in case questions should arise.

Applications will only be accepted in English. To be considered responsive to this solicitation, the application must consist of the above-mentioned separate parts. Any applications that do not conform to these standards may be deemed non-responsive to this solicitation and may not be evaluated. Standard forms and attachments are not included in the 45-page limit for Part II. However, additional information not required under this solicitation will not be considered.

C. Submission Dates, Times, and Address

Applications must be delivered by 4:45 p.m. Eastern Time, July 6, 2004, to: U.S. Department of Labor, Procurement Services Center, 200 Constitution Avenue, NW., Room N-5416, Attention: Lisa Harvey, Reference: Solicitation 04-09, Washington, DC 20210. Applications sent by e-mail, telegram, or facsimile (fax) will not be accepted. Applications sent by delivery services other than the United States Postal Services, such as Federal Express or UPS, will be accepted; however, the applicant bears the responsibility for timely submission. The application package must be received at the designated place by the date and time specified or it will not be considered. Any application received at the Procurement Services Center after the submission date and time will not be considered unless it is received before the award is made and:

1. It is determined by the Government that the late receipt was due solely to mishandling by the Government after receipt at USDOL at the address indicated;

2. It was sent by registered or certified mail not later than the fifth calendar day before July 6, 2004; or

3. It was sent by U.S. Postal Service Express Mail Next Day Service-Post Office to Addressee, not later than 5 p.m. at the place of mailing two (2) working days, excluding weekends and Federal holidays, prior to July 6, 2004.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped, or otherwise placed impression (not a postage meter machine impression) that is readily identifiable without further action as having been applied and affixed by an employee of the U.S. Postal Service on the date of mailing. Therefore, applicants should request that the postal clerk place a legible hand cancellation “bull's-eye” postmark on both the receipt and the envelope or wrapper.

The only acceptable evidence to establish the date of mailing of a late application sent by U.S. Postal Service Express Mail Next Day Service-Post Office to Addressee is the date entered by the Post Office clerk on the “Express Mail Next Day Service-Post Office to Addressee” label and the postmark on the envelope or wrapper on the original receipt from the U.S. Postal Service. “Postmark” has the same meaning as defined above. Therefore, applicants should request that the postal clerk place a legible hand cancellation “bull's-eye” postmark on both the receipt and the envelope or wrapper. The only acceptable evidence to establish the time of receipt at USDOL is the date/time stamp of the Procurement Service Center on the application wrapper or other documentary evidence of receipt maintained by that office. It is recommended that you confirm receipt of your application with your delivery service.

Confirmation of receipt can be obtained from Lisa Harvey, U.S. Department of Labor, Procurement Services Center, telephone (202) 693-4570 (this is not a toll-free-number) or e-mail: harvey.lisa@dol.gov. All applicants are advised that U.S. mail delivery in the Washington DC area can be slow and erratic due to concerns involving contamination. All applicants must take this into consideration when preparing to meet the application deadline.

D. Intergovernmental Review

This funding opportunity is not subject to Executive Order (EO) 12372, “Intergovernmental Review of Federal Programs.”

E. Funding Restrictions

1. In addition to those specified under OMB Circular A-122, the following costs are also unallowable:

a. Construction with funds under this cooperative agreement should not exceed 10 percent of the project budget's direct costs and should be, preferably, limited to improving existing school infrastructure and facilities in the project's targeted communities. USDOL encourages applicants to cost-share and/or leverage funds or in-kind contributions from local partners (but not from other Federal awards) when proposing construction activities in order to ensure sustainability.

b. Under this cooperative agreement, vocational training for adolescents and income generating alternatives for parents are allowable activities. However, federal funds under this cooperative agreement cannot be used to provide micro-credits, revolving funds, or loan guarantees.

c. Awards will not allow reimbursement of pre-award costs.

2. The following activities are also unallowable under this solicitation:

a. Under this cooperative agreement, awareness raising and advocacy activities cannot include lobbying or fund-raising (see OMB Circular A-122).

b. The U.S. Government is opposed to prostitution and related activities, which are inherently harmful and dehumanizing, and contribute to the phenomenon of trafficking in persons. U.S. non-governmental organizations, and their sub-contractors, cannot use U.S. Government funds to lobby for, promote or advocate the legalization or regulation of prostitution as a legitimate form of work. Foreign non-governmental organizations, and their sub-contractors, that receive U.S. Government funds to fight trafficking in persons cannot lobby for, promote or advocate the legalization or regulation of prostitution as a legitimate form of work. It is the responsibility of the primary Grantee to ensure its sub-contractors meet these criteria. (The U.S. Government is currently developing language to specifically address Public International Organizations' implementation of the above anti-prostitution prohibition. If a project under this SGA is awarded to such an organization, appropriate substitute language for the above prohibition will be included in the project's cooperative agreement).

FOR FURTHER INFORMATION CONTACT: Lisa Harvey. E-mail address: harvey.lisa@dol.gov.

V. Application Review Information

A. Application Evaluation Criteria

Technical panels will review applications written in the specified format (see section I, section IV(B) and Appendix A) against the various criteria on the basis of 100 points. Up to five additional points will be given for the inclusion of non-Federal or leveraged resources as described in section V(A) (4). Applicants are requested to prepare their technical proposal (45 page maximum) on the basis of the following rating factors, which are presented in the order of emphasis that they will receive, and the maximum rating points for each factor.

Program Design/Budget-Cost Effectiveness—45 points.

Organizational Capacity—30 points.

Management Plan/Key Personnel/Staffing—25 points.

Leveraging Resources—5 extra points.

1. Project/Program Design/Budget-Cost Effectiveness (45 Points)

This part of the application constitutes the preliminary project document described in section I(B), section VI(C)(1), and outlined in Appendix A. The applicant's proposal must describe in detail the proposed approach to comply with each requirement.

This component of the application must demonstrate the applicant's thorough knowledge and understanding of the issues, barriers and challenges involved in providing education to children engaged in or at-risk of engaging in exploitive child labor, particularly its worst forms; best-practice solutions to address their needs; and the policy and implementing environment in the selected region. When preparing the project document outline, the applicant must at a minimum include a description of:

a. Children Targeted—The applicant must identify which and how many children are expected to benefit from the project, including the sectors in which they work, geographical location, and other relevant characteristics. Children are defined as persons under the age of 18 who have been engaged in the worst forms of child labor as defined by ILO Convention 182, or those under the legal working age of the country and who are engaged in other hazardous and/or exploitive activities.

b. Needs/Gaps/Barriers—The applicant must describe the specific gaps/educational needs of the children targeted that the project will address.

c. Proposed Strategy—The applicant must discuss the proposed regional strategy to address gaps/needs/barriers of the children targeted and its rationale.

d. Description of Activities—The applicant must provide a detailed description of proposed activities that relate to the gaps/needs/barriers to be addressed, including training and technical assistance to be provided to project staff, host country nationals, and community groups involved in the project. The proposed approach is expected to build upon existing activities, government policies, and plans, and avoid needless duplication.

e. Work Plan—The applicant must provide a detailed work plan and timeline for the proposed project, preferably with a visual such as a Gantt chart. Applicants whose strategies include the provision of direct delivery of education are also encouraged to enroll one-quarter of the targeted children in educational activities during the first year of project implementation.

f. Program Management and Performance Assessment—The applicant must describe: (1) How management will ensure that the goals and objectives will be met; (2) how information and data will be collected and used to demonstrate the impacts of the project; and (3) what systems will be put in place for self-assessment, evaluation and continuous improvement. Note to All Applicants: USDOL has already developed common Child Labor Education Initiative indicators and a database system for monitoring children's educational progress that can be used and adapted by Grantees after award so that they do not need to set up this type of system from scratch. Guidance on common indicators will be provided after award, thus applicants should focus their program management and performance assessment responses toward the development of their project's monitoring strategy in support of the four goals of the Child Labor Education Initiative set out in Section I(A)(1). For more information on the Child Labor Education Initiative's common indicators, please visit http://www.clear-measure.com.

g. Budget/Cost Effectiveness—The applicant must show how the budget reflects program goals and design in a cost-effective way to reflect budget/performance integration. The budget must be linked to the activities and outputs of the work plan listed above. This section of the application is expected to explain the costs for performing all of the requirements presented in this solicitation, and for producing all required reports and other deliverables. Costs must include labor, equipment, travel, annual audits, evaluations, and other related costs. Applications are expected to allocate sufficient resources to proposed studies, assessments, surveys, and monitoring and evaluation activities. When developing their applications, applicants must allocate the largest proportion of resources to educational activities aimed at targeted children, rather than direct administrative costs. Preference may be given to applicants with realistically low administrative costs and with a budget breakdown that provides a larger amount of resources to project activities. All costs should be reported, as they will become part of the cooperative agreement upon award. In their cost proposal, applicants must reflect a breakdown of the total administrative costs into direct administrative costs and indirect administrative costs. This section will be evaluated in accordance with applicable Federal laws and regulations. The budget must comply with Federal cost principles (which can be found in the applicable OMB Circulars).

Applicants are encouraged to discuss the possibility of exemption from customs and Value Added Tax (VAT) with host government officials during the preparation of an application for this cooperative agreement. While USDOL encourages host governments to not apply custom or VAT taxes to USDOL-funded programs, some host governments may nevertheless choose to assess such taxes. USDOL may not be able to provide assistance in this regard. Applicants should take into account such costs in budget preparation. If major costs are omitted, a Grantee may not be allowed to include them later.

2. Organizational Capacity (30 Points)

Under this criterion, the applicant must present the qualifications of the organization(s) implementing the program/project. The evaluation criteria in this category are as follows:

a. International Experience—The organization applying for the award has international experience implementing basic, transitional, non-formal or vocational education programs that address issues of access, quality, and policy reform for vulnerable children including children engaged in or at-risk of exploitive child labor, preferably in the regions and countries of interest.

b. Regional/Country Presence—An applicant, or its partners, must be formally recognized by the host government(s) using the appropriate mechanism, e.g., Memorandum of Understanding, or local registration of organization. An applicant must also demonstrate a regional/country presence, independently or through a relationship with another organization(s) with regional/country presence, which gives it the ability to initiate program activities upon award of the cooperative agreement, as well as the capability to work directly with government ministries, educators, civil society leaders, and other local faith-based or community organizations. For applicants that do not have independent regional/country presence, documentation of the relationship with the organization(s) with such a presence must be provided. Applicants are strongly encouraged to work collaboratively with local partners and organizations.

c. Fiscal Oversight—The organization shows evidence of a sound financial system. The results of the most current independent, external financial audit must accompany the application as an attachment (and will not count in the maximum page requirement), and applicants without one will not be considered.

d. Coordination—If two or more organizations are applying for the award in the form of a partnership, they must demonstrate an approach to ensure the successful collaboration including clear delineation of respective roles and responsibilities. The applicants must also identify the lead organization and submit the partnership or sub-contract agreement as an attachment to be counted in the maximum page requirement.

e. Experience—The application must include information about previous grants, cooperative agreements, or contracts of the applicant that are relevant to this solicitation including:

(1) The organizations for which the work was done;

(2) A contact person in that organization with their current phone number;

(3) The dollar value of the grant, contract, or cooperative agreement for the project;

(4) The time frame and professional effort involved in the project;

(5) A brief summary of the work performed; and

(6) A brief summary of accomplishments.

This information on previous grants, cooperative agreements, and contracts held by the applicant must be provided in appendices and will not count in the maximum page requirement.

Note to all applicants: Past performance of organizations that have implemented or are implementing Child Labor Education Initiative projects or activities for USDOL will be taken into account in the review of technical applications (See section III(1)(C) above).

3. Management Plan/Key Personnel/Staffing (25 Points)

Successful performance of the proposed work depends heavily on the management skills and qualifications of the individuals committed to the project. Accordingly, in its evaluation of each application, USDOL will place emphasis on the applicant's management approach and commitment of personnel qualified for the work involved in accomplishing the assigned tasks. This section of the application must include sufficient information to judge management and staffing plans, and the experience and competence of program staff proposed for the project to assure that they meet the required qualifications.

Note to All Applicants: USDOL strongly recommends that key personnel allocate at least 50 percent of their time to the project and be present within the region, specifically in one of the project countries. USDOL prefers that key personnel positions not be combined unless the applicant can propose a cost-effective strategy that ensures that all key management and technical functions (as identified in this solicitation) are clearly defined and satisfied. Key personnel must sign letters of agreement to serve on the project, and indicate availability to commence work within three weeks of cooperative agreement award. Applicants must submit these letters as an Appendix B to the application (these will not count toward the page limit).

a. Key personnel—The applicant must identify all key personnel proposed to carry out the requirements of this solicitation. Information provided on the experience and educational background of personnel should include the following:

(1) The identity of key personnel assigned to the project. “Key personnel” are staff (Project Director, Education Specialist, and Monitoring and Evaluation Officer) who are essential to the successful operation of the project and completion of the proposed work and, therefore, may not be replaced or have hours reduced without the approval of the Grant Officer.

(2) The educational background and experience of all staff to be assigned to the project.

(3) The special capabilities of staff that demonstrate prior experience in organizing, managing and performing similar efforts.

(4) The current employment status of staff and availability for this project. The applicant must also indicate whether the proposed work will be performed by persons currently employed or is dependent upon planned recruitment or sub-contracting.

Note that management and professional technical staff members comprising the applicant's proposed team should be individuals who have prior experience with organizations working in similar efforts, and are fully qualified to perform work specified in the Statement of Work. Where sub-contractors or outside assistance are proposed, organizational control by the Grantee should be clearly delineated to ensure responsiveness to the needs of USDOL.

For each region for which an application is submitted, the applicant must designate the key personnel listed below. If key personnel are not designated, the application will not be considered. In this section, the following information must be furnished:

(a) A Project Director to oversee the project and be responsible for implementation of the requirements of the cooperative agreement. The Project Director must have a minimum of three years of professional experience in a leadership role in implementation of complex basic education programs in developing countries in areas such as education policy; improving educational quality and access; educational assessment of disadvantaged students; development of community participation in the improvement of basic education for disadvantaged children; and monitoring and evaluation of basic education projects. Consideration will be given to candidates with additional years of experience including experience working with officials of ministries of education and/or labor. Preferred candidates must also have knowledge of exploitive child labor issues, and experience in the development of transitional, formal, and vocational education of children removed from exploitive child labor and/or victims of the worst forms of child labor. Fluency in English is required and working knowledge of the official language(s) spoken in the target countries is preferred.

(b) An Education Specialist who is expected to provide leadership in developing the technical aspects of this project in collaboration with the Project Director. This person must have at least three years experience in basic education projects in developing countries in areas including student assessment, teacher training, educational materials development, educational management, and educational monitoring and information systems. This person must have experience in working successfully with ministries of education, networks of educators, employers' organizations and trade union representatives or comparable entities. Additional experience with exploitive child labor/education policy and monitoring and evaluation is an asset. Working knowledge of English is preferred, as is a similar knowledge of the official language(s) spoken in the target region/countries.

(c) A Monitoring and Evaluation Officer who must serve at least part-time and oversee the implementation of the project's monitoring and evaluation strategies and requirements. This person should have at least three years progressively responsible experience in the monitoring and evaluation of international development projects, preferably in education and training or a related field. Related experience can include strategic planning and performance measurement, indicator selection, quantitative and qualitative data collection and analysis methodologies, and knowledge of the Government Performance and Results Act (GPRA). Individuals with a demonstrated ability to build capacity of the project team and partners in these areas will be given special consideration.

b. Other Personnel—The applicant must identify other program personnel proposed to carry out the requirements of this solicitation.

c. Management Plan—The management plan must include the following:

(1) A description of the functional relationship between elements of the project's management structure; and

(2) The responsibilities of project staff and management and the lines of authority between project staff and other elements of the project.

d. Staff Loading Plan—The staff loading plan must identify all key tasks and the person-days required to complete each task. Labor estimated for each task must be broken down by individuals assigned to the task, including sub-contractors and consultants. All key tasks should be charted to show time required to perform them by months or weeks.

e. Roles and Responsibilities—The applicant must include a resume and description of the roles and responsibilities of all proposed personnel. Resumes must be attached in an appendix and will not count toward the maximum page limit. At a minimum, each resume must include: The individual's current employment status and previous work experience, including position title, duties, dates in position, employing organizations, and educational background. Duties must be clearly defined in terms of role performed, e.g., manager, team leader, and/or consultant. Indicate whether the individual is currently employed by the applicant, and (if so) for how long.

4. Leverage of Grant Funding (5 Points)

USDOL will give up to five (5) additional rating points to applications that include non-Federal resources that significantly expand the dollar amount, size and scope of the application. These programs will not be financed by the project, but can complement and enhance project objectives. Applicants are also encouraged to leverage activities, such as micro-credit, revolving funds, or loan guarantees, which are not directly allowable under the cooperative agreement. To be eligible for the additional points, the applicant must list the source(s) of funds, the nature, and possible activities anticipated with these funds under this cooperative agreement and any partnerships, linkages or coordination of activities, cooperative funding, etc.

B. Review and Selection Process

USDOL will screen all applications to determine whether all required elements are present and clearly identifiable. Each complete application will be objectively rated by a technical panel against the criteria described in this announcement. Applicants are advised that panel recommendations to the Grant Officer are advisory in nature. The Grant Officer may elect to select a Grantee on the basis of the initial application submission or the Grant Officer may establish a competitive or technically acceptable range from which qualified applicants will be selected. If deemed appropriate, the Grant Officer may call for the preparation and receipt of final revisions of applications, following which the evaluation process described above may be repeated, in whole or in part, to consider such revisions. The Grant Officer will make final selection determinations based on panel findings and consideration of factors that represent the greatest advantage to the government, such as geographic distribution of the competitive applications, cost, the availability of funds and other factors. The Grant Officer's determinations for awards under this solicitation are final.

Note to All Applicants: Selection of an organization as a cooperative agreement recipient does not constitute approval of the cooperative agreement application as submitted. Before the actual cooperative agreement is awarded, USDOL may enter into negotiations about such items as program components, funding levels, and administrative systems in place to support cooperative agreement implementation. If the negotiations do not result in an acceptable submission, the Grant Officer reserves the right to terminate the negotiation and decline to fund the application. Award may also be contingent upon an exchange of project support letters between USDOL and the relevant ministries in target countries. USDOL is not obligated to make any awards as a result of this solicitation, and only the Grant Officer can bind USDOL to the provision of funds under this solicitation. Unless specifically provided in the cooperative agreement, USDOL's acceptance of a proposal and/or award of Federal funds does not waive any cooperative agreement requirements and/or procedures.

C. Anticipated Announcement and Award Dates

Designation decisions will be made, where possible, within 45 days after the deadline for submission of proposals.

VI. Award Administration Information

A. Award Notices

The Grant Officer will notify applicants of designation results as follows:

Designation Letter: The designation letter signed by the Grant Officer will serve as official notice of an organization's selection. The designation letter will be accompanied by a cooperative agreement and USDOL/ILAB's Management Procedures and Guidelines (MPG).

Non-Designation Letter: Any organization not designated will be notified formally of the non-designation and given the basic reasons for the determination.

Notification by a person or entity other than the Grant Officer that an organization has or has not been designated is not valid.

B. Administrative and National Policy Requirements

1. General

Grantee organizations are subject to applicable U.S. Federal laws (including provisions of regulations and appropriations law) and the applicable OMB Circulars. If during project implementation a Grantee is found in violation of U.S. government law, the terms of the cooperative agreement awarded under this solicitation may be modified by USDOL, costs may be disallowed and recovered, the cooperative agreement may be terminated, and USDOL may take other action permitted by law. Determinations of allowable costs will be made in accordance with the applicable U.S. Federal cost principles. Grantees must also submit to an annual independent audit, and costs for such an audit should be included in direct or indirect costs, whichever is appropriate.

The cooperative agreements awarded under this solicitation are subject to the following administrative standards and provisions, and any other applicable standards that come into effect during the term of the grant agreement, if applicable, to a particular Grantee:

a. 29 CFR part 31—Nondiscrimination in Federally Assisted Programs of the Department of Labor—Effectuation of Title VI of the Civil Rights Act of 1964.

b. 29 CFR part 32—Nondiscrimination on the Basis of Handicap in Programs and Activities Receiving or Benefiting from Federal Financial Assistance.

c. 29 CFR part 33—Enforcement of Nondiscrimination on the Basis of Handicap in Programs or Activities Conducted by the Department of Labor.

d. 29 CFR part 36—Federal Standards for Nondiscrimination on the Basis of Sex in Education Programs or Activities Receiving Federal Financial Assistance.

e. 29 CFR part 93—New Restrictions on Lobbying.

f. 29 CFR part 95—Uniform Administrative Requirements for Grants and Agreements with Institutions of Higher Education, Hospitals and other Non-Profit Organizations, and with Commercial Organizations, Foreign Governments, Organizations Under the Jurisdiction of Foreign Governments and International Organizations.

g. 29 CFR part 96—Federal Standards for Audit of Federally Funded Grants, Contracts and Agreements.

h. 29 CFR part 98—Federal Standards for Government-wide Debarment and Suspension (Nonprocurement) and Government-wide Requirements for Drug-Free Workplace (Grants).

i. 29 CFR part 99—Federal Standards for Audits of States, Local Governments, and Non-Profit Organizations.

Applicants are reminded to budget for compliance with the administrative requirements set forth. This includes the cost of performing administrative activities such as annual financial audits, closeout, mid-term and final evaluations, document preparation, as well as compliance with procurement and property standards. Copies of all regulations referenced in this solicitation are available at no cost, on-line, at http://www.dol.gov.

Grantees should be aware that terms outlined in this solicitation, the cooperative agreement, and the MPGs are applicable to the implementation of projects awarded under this solicitation.

2. Sub-Contracts

Sub-contracts must be awarded in accordance with 29 CFR 95.40-48. In compliance with Executive Orders 12876, as amended, 13230, 12928 and 13021, as amended, Grantees are strongly encouraged to provide sub-contracting opportunities to Historically Black Colleges and Universities, Hispanic-Serving Institutions and Tribal Colleges and Universities. To the extent possible, sub-contracts awarded after the cooperative agreement is signed must be awarded through a formal competitive bidding process, unless prior written approval is obtained from USDOL/ILAB.

3. Key Personnel

As stated in section V(A)(3), the application must list the individual(s) who has/have been designated as having primary responsibility for the conduct and completion of all project work. The applicant must submit written proof that key personnel (Project Director, Education Specialist, and Monitoring and Evaluation Officer) will be available to begin work on the project no later than three weeks after award. Grantees agree to inform the Grant Officer's Technical Representative (GOTR) whenever it appears impossible for this individual(s) to continue work on the project as planned. A Grantee may nominate substitute key personnel and submit the nominations to the GOTR; however, a Grantee must obtain prior approval from the Grant Officer for all changes to key personnel (Project Director, Education Specialist, and Monitoring and Evaluation Officer). If the Grant Officer is unable to approve the key personnel change, he/she reserves the right to terminate the cooperative agreement or disallow costs.

4. Encumbrance of Cooperative Agreement Funds

Cooperative agreement funds may not be encumbered/obligated by a Grantee before or after the period of performance. Encumbrances/obligations outstanding as of the end of the cooperative agreement period may be liquidated (paid out) after the end of the cooperative agreement period. Such encumbrances/obligations may involve only specified commitments for which a need existed during the cooperative agreement period and that are supported by approved contracts, purchase orders, requisitions, invoices, bills, or other evidence of liability consistent with a Grantee's purchasing procedures and incurred within the cooperative agreement period. All encumbrances/obligations incurred during the cooperative agreement period must be liquidated within 90 days after the end of the cooperative agreement period, if practicable.

All equipment purchased with project funds must be inventoried and secured throughout the life of the project. At the end of the project, USDOL and the Grantees are expected to determine how to best allocate equipment purchased with project funds in order to ensure sustainability of efforts in the project's implementing areas.

5. Site Visits

USDOL, through its authorized representatives, has the right, at reasonable times, to make site visits to review project accomplishments and management control systems and to provide such technical assistance as may be required. If USDOL makes any site visit on the premises of a Grantee or a sub-contractor(s) under this cooperative agreement, a Grantee must provide and must require its sub-contractors to provide all reasonable facilities and assistance for the safety and convenience of government representatives in the performance of their duties. All site visits and evaluations are expected to be performed in a manner that will not unduly delay the implementation of the project.

C. Reporting and Deliverables

In addition to meeting the above requirements, a Grantee is expected to monitor the implementation of the program, report to USDOL on a quarterly basis, and undergo evaluations of program results. Guidance on USDOL procedures and management requirements will be provided to Grantees in the MPGs with the cooperative agreement. The project budget must include funds to: plan, implement, monitor, and evaluate programs and activities (including mid-term and final evaluations and annual audits); conduct studies pertinent to project implementation; establish education baselines to measure program results; and finance travel by field staff and key personnel to meet annually with USDOL officials in Washington DC. Applicants based both within and outside the United States should also budget for travel by field staff and other key personnel to Washington DC at the beginning of the project for a post-award meeting with USDOL. Indicators of project performance will also be proposed by a Grantee and approved by USDOL in the Performance Monitoring Plan as discussed in section VI (C) (4) below. Unless otherwise indicated, a Grantee must submit copies of all required reports to ILAB by the specified due dates. Note to All Applicants: USDOL provides its Grantees with training and technical assistance to refine the quality of deliverables. This assistance includes workshops to refine project design and improve performance monitoring plans, and reporting on common Child Labor Education Initiative indicators.

Exact timeframes for completion of deliverables will be addressed in the cooperative agreement and the MPGs. Specific deliverables are the following:

1. Preliminary and Final Project Design Document

As stated in section IV(B), applications must include a preliminary project design document in the format described in Appendix A, with design elements linked to a logical framework matrix. (Note: The supporting logical framework matrix will not count in the 45-page limit but should be included as an annex to the project document. To guide applicants, a sample logical framework matrix for a hypothetical Child Labor Education Initiative project is available at http://www.dol.gov/ILAB/grants/sga0409/bkgrdSGA0409.htm.). The project document must include a background/justification section, project strategy (goal, purpose, outputs, activities, performance indicators, means of verification, assumptions), project implementation timetable and project budget. The narrative must address the criteria/themes described in the Program Design/Budget-Cost Effectiveness section (section V(A)(1) above).

Within six months after the time of the award, the Grantee must deliver the final project design document, based on the application written in response to this solicitation, including the results of additional consultation with stakeholders, partners, and ILAB. The final project design document is expected to also include sections that address coordination strategies, project management and sustainability.

2. Progress and Financial Reports

The format for the progress reports will be provided in the MPG distributed after the award. Grantees must furnish a typed Technical Progress Report and a Financial Status Report (SF269) to USDOL/ILAB on a quarterly basis by 31 March, 30 June, 30 September, and 31 December of each year during the cooperative agreement period. Also, a copy of the Federal Cash Transactions Report (SF 272) should be submitted to ILAB upon submission to the Health and Human Services—Payment Management System (HHS-PMS).

3. Annual Work Plan

Grantees must develop an annual work plan within six months of project award for approval by ILAB so as to ensure coordination with other relevant social actors throughout the region. Subsequent annual work plans must be delivered no later than one year after the previous one.

4. Performance Monitoring and Evaluation Plan

Grantees must develop a performance monitoring and evaluation plan, in collaboration with USDOL/ILAB, including beginning and ending dates for the project, performance indicators and methods and cost of data collection, planned and actual dates for mid-term review, and final end of project evaluations. The performance monitoring plan must be developed in conjunction with the logical framework project design and common indicators for GPRA reporting selected by ILAB, as described in section V(A)(1)(f). The plan must also include a limited number of key performance indicators that can be realistically measured within the cost parameters allocated to project monitoring. Baseline data collection is expected to be tied to the performance indicators of the project design document and the performance monitoring plan. A monitoring and evaluation plan must be submitted to ILAB within six months of project award.

5. Project Evaluations

Grantees and the GOTR will determine on a case-by-case basis whether mid-term evaluations will be conducted by an external evaluation team. All final evaluations must be external and independent in nature. A Grantee must respond in writing to any comments and recommendations resulting from the mid-term evaluation. The budget must include the projected cost of mid-term and final evaluations.

VII. Agency Contacts

All inquiries regarding this solicitation should be directed to: Ms. Lisa Harvey, U.S. Department of Labor, Procurement Services Center, 200 Constitution Avenue, NW., Room N-5416, Washington, DC 20210; telephone (202) 693-4570 (this is not a toll-free-number) or e-mail: harvey.lisa@dol.gov.

VIII. Other Information

A. Materials Prepared Under the Cooperative Agreement

Grantees must submit to USDOL/ILAB, for approval, all media-related, awareness-raising, and educational materials developed by the Grantee or its sub-contractors before they are reproduced, published, or used. USDOL/ILAB considers that materials include brochures, pamphlets, videotapes, slide-tape shows, curricula, and any other training materials used in the program. USDOL/ILAB will review materials for technical accuracy.

B. Acknowledgment of USDOL Funding

USDOL has established procedures and guidelines regarding acknowledgement of funding. USDOL requires, in most circumstances, that the following be displayed on printed materials:

“Funding provided by the United States Department of Labor under Cooperative Agreement No. E-9-X-X-XXXX.”

With regard to press releases, requests for proposals, bid solicitations, and other documents describing projects or programs funded in whole or in part under this cooperative agreement, all Grantees are required to consult with USDOL/ILAB on: acknowledgment of USDOL funding; general policy issues regarding international child labor; and informing USDOL, to the extent possible, of major press events and/or interviews. More detailed guidance on acknowledgement of USDOL funding will be provided upon award to the Grantee(s) in the cooperative agreement and MPG.

In consultation with USDOL/ILAB, USDOL will be acknowledged in one of the following ways:

1. The USDOL logo may be applied to USDOL-funded material prepared for worldwide distribution, including posters, videos, pamphlets, research documents, national survey results, impact evaluations, best practice reports, and other publications of global interest. A Grantee must consult with USDOL/ILAB on whether the logo may be used on any such items prior to final draft or final preparation for distribution. In no event will the USDOL logo be placed on any item until USDOL/ILAB has given a Grantee written permission to use the logo on the item.

2. The following notice must appear on all documents: “This document does not necessarily reflect the views or policies of the U.S. Department of Labor, nor does mention of trade names, commercial products, or organizations imply endorsement by the U.S. Government.”

C. Privacy and Freedom of Information

Any information submitted in response to this solicitation will be subject to the provisions of the Privacy Act and the Freedom of Information Act, as appropriate.

Signed at Washington, DC, this 26th day of May, 2004.
Johnny Arnold,
Acting Grant Officer.

Appendix A: Project Document Format

Executive Summary

1. Background and Justification

2. Target Groups

3. Program Approach and Strategy

3.1 Narrative of Approach and Strategy (linked to Logical Framework matrix, Annex A)

3.2 Project Implementation Timeline (Gantt Chart of Activities linked to Logical Framework in Annex A)

3.3 Budget (with cost of Activities linked to Outputs-Based Budget in Annex B)

4. Project Monitoring and Evaluation

4.1 Indicators and Means of Verification

4.2 Baseline Data Collection Plan

5. Institutional and Management Framework

5.1 Institutional Arrangements for Implementation

5.2 Collaborating and Implementing Institutions (Partners) and Responsibilities

5.3 Other Donor or International Organization Activity and Coordination

5.4 Project Management Organizational Chart

6. Inputs

6.1 Inputs provided by USDOL

6.2 Inputs provided by the Grantee

6.3 National and/or Other Contributions

7. Sustainability

Annex A: Full presentation of the Logical Framework matrix

Annex B: Outputs-Based Budget example

(A worked example of a Logical Framework matrix, an Outputs-Based Budget, and other background documentation for this solicitation are available from the USDOL/ILAB Web site at http://www.dol.gov/ILAB/grants/sga0409/bkgrdSGA0409.htm.)

Appendix B: Country Background Section

MENA Region

Lebanon

In 2000, UNICEF estimated that 45.3 percent of children ages 6 to 14 years were working in Lebanon inside and outside their homes for paid and unpaid work. The highest proportions of working children exist in South Lebanon and in the Beqaa region, although the work of children is also prevalent in Northern Lebanon and in the suburbs of Beirut. UNICEF estimates that girls represent over half of the children ages 6 to 14 who are engaged in work. Non-Lebanese children, including Syrian nationals and Palestinian refugees, constitute 10 to 20 percent of children working in the formal sector, but a larger portion of children are working on the street.

Children between ages 6 to 14 years are employed in metal works, handicraft and artisan establishments, in sales, construction work, and the operation of machinery. Approximately 11 percent of working children are employed in agriculture. In 2000, national reports estimated that 25,000 children ages 7 to 14 were working in tobacco cultivation. Ninety percent of children working in tobacco cultivation are unpaid, some having entered the labor force as early as 3 years old. Some of these children are forced by their parents to work in the fields or beg in the streets to help support their families. The commercial sexual exploitation of children is reported to occur, although it is not considered by the general population to be a systemic or widespread problem.

Though exploitive child labor is a problem in Lebanon, efforts have been made by the government to address the problem. The Labor Code of 1996 established the minimum age for employment at 14 years. The Labor Code prohibits children ages 13 and younger from engaging in any kind of work. Children ages 14 to 17 may be employed under special conditions relating to matters such as working hours and conditions, and type of work. The Ministry of Labor is responsible for the enforcement of child labor laws through its labor inspectors.

Lebanese law adopted in 1998 provides for free and compulsory education; however, education is only compulsory for 5 years (through grade 5 or age 12) and students are responsible for registration and other fees, even in State-run public institutions (although all students in public schools have been exempted from registration fees in the past two years). Since the civil war, educational standards in the “free” public institutions have declined, and demand for entrance into private fee-paying schools has progressively decreased due to the deteriorating economic situation, which has in turn led to declining living standards for a large fraction of the population. State-run schools lack appropriate facilities, equipment and trained staff. Approximately 45 percent of children stop schooling before completing basic education, or grade 6. Since the minimum age for employment is 14 years, children who drop out of school after the compulsory primary level are at-risk of becoming involved in exploitive child labor.

Exploitive child labor adversely affects the education of working children in Lebanon, leading to work-related absenteeism and contributing to high dropout rates before reaching the secondary-school level. The government has received technical and financial support and credit from various international bodies, such as UNICEF and the World Bank, in order to enroll working children ages 14 to 18 in a continuing education program, and to restore the credibility of the public education system through improvements in quality, efficiency, and increased access, respectively. In 2002, the Government of Lebanon launched an Education for All Forum, which is expected to develop the country's national action plan.

The ILO-IPEC National Program for the Elimination of Child Labor in Lebanon, funded by the French government in 2000, was the first program of its kind in Lebanon to address mainstreaming child labor at the national institutional level and through direct interventions to withdraw children from exploitive labor. The national program included 10 small-scale direct action programs, and served as a model of collaboration between ILO-IPEC, various Ministries, district administrators, municipalities, employers' organizations, and local NGOs working together to combat exploitive child labor while emphasizing the role of education to retain potential dropouts.

Yemen

According to the 1999 Yemen Poverty Monitoring Survey conducted by the Central Statistical Office, the number of children ages 6 to 14 engaged in work in Yemen was estimated to be 700,000 or about 12 percent of the age group. An additional 37 percent of children from this age group are reportedly neither involved in work nor attending school. It is also estimated that 120,000 children ages 6 to 8 years work either inside or outside the home. Rural child workers account for 94 percent of the total number of working children, with the overwhelming majority of children working in the agricultural sector and for their families. Children living in rural areas are more than five times as likely to work as children in urban areas. The probability of a child working increases with age. Girls are more likely than boys to be involved in work and are less likely than boys to attend school full-time.

Though exploitive child labor is widespread in Yemen and the prevalence of children engaged in work appears to be rising, efforts have been made by the Government of Yemen to address the problem through a commitment to education for all and strengthening safety nets by reaching out to the most disadvantaged groups. A new Child Rights Law was issued in 2002 and sets the general minimum working age at 14 years and at 15 years for industrial work. The law extends legal protection to child workers, but it excludes children working for their families, a category that accounts for the overwhelming majority (87 percent) of child workers.

The educational development priorities of the Government of Yemen are detailed in the Basic Education Development Strategy, which the Government of Yemen developed in 2000 in collaboration with the World Bank to improve access to education in rural areas, reduce school cost, and improve quality of education, and which includes child labor in a special component for children at-risk. Though education is compulsory for children from ages 6 to 15 years and school enrollment rates have improved over the past decade, further expansion of enrollment is posing a tremendous challenge. Over two million children remain out of school and a large gender gap in enrollment in favor of boys persists.

The government has received technical and financial support from various international bodies, such as UNICEF, UNDP and the World Bank, in order to give highest priority to primary education and increased access to education for girls in remote rural areas. USAID has recently provided funding to support a basic education project in the rural regions of Al Jawf, Amran, Mareb, Saadah, and Shabwah. In 2002, Yemen became eligible to receive funding under the World Bank's Education for All Fast Track Initiative that aims to provide all children with primary school education by the year 2015.

Child labor is not directly mentioned in Yemen's main development plans. However, the ILO-IPEC National Program on the Elimination of Child Labor in Yemen, funded by USDOL in 2000, is the first program of its kind in Yemen that addresses mainstreaming child labor at the national institutional level and through direct interventions to withdraw children from exploitive labor. One of the main objectives of the national program is putting in place a National Policy and Program Framework on Child Labor by the end of the program in November 2004.

Many government institutions have been engaged in addressing exploitive child labor through the national program, including trade unions and employers' organizations, NGOs and community groups. In March 2003, a research initiative of the ILO, UNICEF, and World Bank produced a report that presents strategic options for addressing child labor and suggests prioritization of interventions.

Other development plans such as the Yemen Strategic Vision 2025, Second Five-year Plan for Economic and Social Development (2001-2005), and the Poverty Reduction Strategy Paper (2003-2005) provide a framework to national efforts directed at the root causes of exploitive child labor including addressing poverty, lack of schooling, low access to basic services, and various other issues contributing to exploitive child labor. One of the main challenges and opportunities for implementing a Child Labor Education Initiative in Yemen is finding innovative ways for families and communities to generate income to offset the loss of contributions to family survival resulting from their children entering and persisting in school. Leveraging social welfare programs and projects such as the Social Welfare Fund, Social Fund for the Development, and Public Works Project could benefit the target population. Child Labor Education Initiative efforts to address exploitive child labor through education in Yemen should operate in tandem with the Government of Yemen's overall education and poverty alleviation policies and programs.

African Sub-Region

Ethiopia

In 2003, there were an estimated 30 million children in Ethiopia, 1.2 million of whom had lost their mother or both parents to HIV/AIDS. This number is expected to rise to over 2 million by 2010. There are also an estimated 230,000 children under 14 living with HIV/AIDS in Ethiopia. HIV/AIDS orphans in Ethiopia are increasingly found living in urban environments and are vulnerable to working in the worst forms of child labor. They also face limited access to food, healthcare and basic education “ and may be traumatized due to their ordeals living without parents or caregivers. Official government estimates put the number of street children at 150,000 to 200,000, many of whom are suspected orphans. As a preventive strategy to protect HIV/AIDS-affected children from exploitive labor, these children must have access to quality basic education.

According to the 2001 Ethiopian Child Labor Survey Report, approximately 85 percent of children ages 5 to 14 years were involved in productive or household activities. In rural areas, children are often found working for their families in agriculture and tending to livestock. In urban areas, children work in domestic work, street peddling, construction, manufacturing, and in the market. Street children often work in the informal sector as shoe shiners and beggars, and young girls are increasingly engaged in commercial sexual exploitation. Internal trafficking of children for forced labor and external trafficking of children for commercial sexual exploitation is also reportedly a problem.

The government provides free and compulsory education, but there are not enough schools or teachers to accommodate all children. Access to education in rural areas is especially limited. Girls' enrollment and completion rates remain lower than boys. Teacher absenteeism due to HIV/AIDS has had an especially negative impact on quality of education. HIV/AIDS-affected children must often work long hours to help their family or caregivers. Orphans living with relatives are usually the first children in the family to be denied an education. Children affected by HIV/AIDS may have insufficient opportunities to enroll in primary education. There are few opportunities in Ethiopia for vocational, non-formal and technical education.

The Government of Ethiopia is an associated country of ILO-IPEC and has ratified ILO Conventions 138 and 182. The Ministry of Labor and Social Affairs is the chair of the National Steering Committee against Sexual Abuse and Exploitation of Children. The government collaborates with several international organizations on education-related projects.

Mozambique

HIV/AIDS prevalence rates in Mozambique have increased dramatically since 1992. In 2001, the estimated number of persons between the ages of 15 to 49 years infected with HIV was 1.1 million. In the same year, 420,000 children under the age of 15 were estimated to have lost one or both parents to AIDS. These projections indicate a growing burden on remaining caregivers and increased vulnerability among orphaned children, many of whom may resort to hazardous labor in an effort to support themselves, siblings, and ill family members. There is a need to provide these vulnerable children with quality basic educational opportunities as a strategy to combat their participation in exploitive labor.

In 2001, the ILO estimated that 32.1 percent of children ages 10 to 14 years in Mozambique were working. As in other African countries, many traditional Mozambicans view the work of children as necessary and a natural part of a child's education and development. However, much of the work done by children in Mozambique can be hazardous to their healthy development.

In a child labor rapid assessment survey conducted in 1999, the Ministry of Labor and UNICEF described several specific worst forms of child labor as being particularly prevalent in Mozambique: domestic work, trading and hawking, agriculture and fishing, and commercial sexual exploitation. The type of labor that children engage in tended to differ according to gender. Boys tended to work in informal trading on the streets, in markets and at bus stations and bus stops. Many of them also worked in commercial agriculture, particularly in cotton fields in the Cabo Delgado and Nampula provinces and in fishing and forestry. Girls tended to work as domestic workers and traders, as well as in commercial agriculture. In some cases, girls were involved in commercial sexual exploitation. There have also been reports of child trafficking and evidence of children working in factories and small mining. In addition to the hazards children are exposed to while carrying out these jobs, the work children engage in often conflicts with schooling.

Education is compulsory and free through the age of 12, but there is a matriculation fee for each child, and children are responsible for purchasing books and school supplies. Enforcement of compulsory education laws is inconsistent due to the lack of resources and the lack of schools. In 2000, the gross primary enrollment rate was 91.5 percent, and the net primary enrollment rate was 54.4 percent. The high gross enrollment rate reflects the number of overage children enrolled in their respective grade, and the relatively low net enrollment rate reflects the need for increased access to education. Enrollment and drop out rates differ according to geographic location and gender. Children, particularly girls, living in the Northern and Central provinces and rural areas tend to suffer disproportionably.

The government of Mozambique has ratified ILO Conventions 138 and 182. The government has worked closely with UNICEF on a Draft Strategy for the Eradication of Child Labor, and has implemented several programs and projects aimed at protecting children from sexual exploitation and trafficking.

Rwanda

In 1994, at least 800,000 people were killed in a genocide. Nearly two million more fled to neighboring countries. The genocide and massive population displacement resulted in a dramatic increase in the number of orphans and vulnerable children in need of support, and a subsequent period of civil conflict in 1997 and 1998 further exacerbated the problem. In addition, the systematic rape and the purposeful transmission of HIV/AIDS was used as a weapon of genocide in order to infect and eventually kill a population after the war ended. This legacy of HIV/AIDS carries with it a particular stigma in Rwanda. Between the genocide and ongoing public health concerns, Rwanda has been hard-hit by the HIV/AIDS epidemic. In 2001, the HIV/AIDS adult prevalence rate was 8.9 percent. There are 500,000 Rwandans living with the disease, 13 percent of whom (or 65,000) are children under 15. These children are extremely vulnerable to entering exploitive labor and need to have access to quality basic education.

Today, approximately one million children in Rwanda are orphans. Of that total, an estimated 264,000 children are HIV/AIDS orphans. As many as 13 percent of all households are being run by children (between 200,000 and 300,000 children). And as many as 9,000 children are living or working on the streets. Orphaned children engage in various forms of labor, including domestic labor, sexual exploitation, agricultural work on tea/coffee/pyrethrum plantations, and work in quarries and mines. Nationally, 41.3 percent of children between the ages of 10 and 14 work, but anecdotal evidence suggests that dire household poverty forces the majority of orphans to work in some capacity.

Education is free and compulsory from the ages of 7 to 12, but in practice, grants designed to eliminate school fees are not yet available to many schools due to slow implementation of the government policy. Other costs of education remain, including purchasing uniforms and school supplies, and possible contributions to the school to cover repairs or teachers' expenses. Public schools lack basic supplies and cannot accommodate all primary age school children, and private schools are inaccessible or too costly for the majority of the population. Ninety-five percent of child-headed households lack adequate access to education due to prohibitive costs and conflicting responsibilities, among other limitations. On a national level, the primary school completion rate is extremely low, and the secondary school enrollment rate is below 10 percent. Over half of primary school teachers lack basic qualifications. Opportunities for non-formal education or vocational training are extremely limited.

The Government of Rwanda is an associated country of ILO-IPEC and has ratified ILO Conventions 138 and 182. The Ministry for Local Administration, Information and Social Affairs has opened safe houses for street children at-risk of entering exploitive labor. The government has established a list of the worst forms of child labor in Rwanda, and is working with UNICEF to address some of these worst forms.

Zambia

An estimated 800,000 children in Zambia have lost one or both parents to HIV/AIDS. These orphans are more likely to be found living in urban environments with relatives or on the streets where they must work to make a living. A majority of street children on the streets of Lusaka are orphans. Orphans are less likely to be attending school, may experience severe psychosocial trauma due to the loss of their parents, and may be in danger of both physical and sexual abuse. They have limited access to basic necessities including food, water, and health care, and often must resort to working in dangerous labor conditions to survive.

The Zambian Central Statistics Office estimated in 1999 that 11.5 percent of children ages 5 to 14 years were working, of which approximately 90 percent were engaged in agricultural work. Only one quarter of these children combined work with attendance at school. Children are engaged in a variety of other occupations as well, including stone crushing, fishing, manufacturing, domestic service, and vending and food production. Young girls are increasingly found working in prostitution leaving them extremely vulnerable to contracting the HIV/AIDS virus. Street children also engage in informal work activities, such as carrying parcels or guarding cars.

In 2002, the Ministry of Education instituted free primary education for 7 years, although it is not compulsory. Some rural communities have not fully implemented this policy and children who cannot contribute fees to the school or who cannot afford to buy a uniform are still being turned away from entering the classroom. Substantial barriers to quality basic education remain and the number of schools and teachers are insufficient to meet the increasing demand for education. Teacher absenteeism due to HIV/AIDS has had an especially negative impact on quality of education. Orphans and vulnerable children face other difficulties, such as long work hours that prevent school attendance, stigma and abuse, and cost of school materials. Quality of education in some schools in Zambia continues to be substandard.

The Government of Zambia is a member country of ILO-IPEC and has ratified ILO Conventions 138 and 182. A National Plan of Action on Child Labor was developed in 2000 and approved by the government in December 2001. The government's National Policy on Children and Labor Market policy include chapters on child labor.

[FR Doc. 04-12525 Filed 6-2-04; 8:45 am]

BILLING CODE 4510-28-P